DEPARTMENT OF COMMERCE

National Oceanic and Atmospheric Administration

RIN 0648-XV18

Endangered and Threatened Species; Recovery Plans

AGENCY: National Marine Fisheries Service (NMFS), National Oceanic and Atmospheric Administration (NOAA), Commerce.

ACTION: Extension of public comment period.

SUMMARY: On March 18, 2010, we, NMFS, announced the release of the Draft Recovery Plan for Central California Coast coho salmon (Draft Plan) for public review and comment. The Draft Plan addresses the Central California Coast coho salmon (Oncorhynchus kisutch) Evolutionarily Significant Unit (ESU). NMFS is soliciting review and comment from the public and all interested parties on the Draft Plan. As part of that proposal, we provided a 60-day comment period, ending on May 17, 2010. We have received requests for an extension of the public comment period. In response to these requests, we are extending the comment period for the proposed action an additional 60 days.

DATES: Information and comments on the subject action must be received by July 6, 2010.

ADDRESSES:

Please send written comments to Charlotte Ambrose, National Marine Fisheries Service, 777 Sonoma Avenue, Room 325, Santa Rosa, CA 95404. Comments may also be submitted by e-mail to: CohoRecovery.SWR@noaa.gov. Include in the subject line of the e-mail comment the following identifier: Comments on Central Valley Salmon and Steelhead Draft Plan. Comments may be submitted via facsimile (fax) to (707) 578-3435.

Persons wishing to review the Draft Plan can obtain an electronic copy (i.e., CD-ROM) from Andrea Berry by calling (866) 300-2948 or by e-mailing a request to Andrea.Berry@noaa.gov with the subject line “CD-ROM Request for CCC coho salmon Recovery Draft Plan.” Electronic copies of the Draft Plan are also available on-line on the NMFS website http://swr.nmfs.noaa.gov/recovery/Coho_Recovery_Plan_031810.htm.

FOR FURTHER INFORMATION CONTACT: Charlotte Ambrose, NCCC Domain Recovery Coordinator at (707) 575-6068, or Maura Eagan Moody at (707) 575-6092.

SUPPLEMENTARY INFORMATION:

Background

On March 18, 2010, we published a Notice of Availability of the Draft Central California Coast coho salmon Recovery Plan (Draft Plan) for public review and comment (FR 13081). The Draft Plan addresses the Central California Coast coho salmon (Oncorhynchus kisutch) Evolutionarily Significant Unit (ESU). NMFS is soliciting review and comment from the public and all interested parties on the Draft Plan. As part of that proposal, we provided a 60-day comment period, ending on May 17, 2010. Public meetings were held in Fort Bragg, CA, on March 31, 2010, in Santa Cruz, CA, on April 8, and in Santa Rosa, CA on April 9, 2010. We have received requests for an extension of the public comment period. In response to these requests, we are extending the comment period for the proposed action an additional 60 days.

Information and comments must be received by July 6, 2010.

Authority: 16 U.S.C. 1531 et seq.

Dated: May 4, 2010.
Therese Conant,
Acting Chief, Endangered Species Division, Office of Protected Resources, National Marine Fisheries Service.

[FR Doc. 2010-10860 Filed 5-6-10; 8:45 am]

BILLING CODE 3510-22-S